FEDERAL COMMUNICATIONS COMMISSION

Information Collection Being Submitted for Review and Approval to the Office of Management and Budget

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before July 8, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-0856.

Title: Universal Service—Schools and Libraries Universal Service Program Reimbursement Forms.

Form Numbers: FCC Forms 472, 473 and 474.

Type of Review: Revision of a currently approved collection.

Respondents: Business or other for-profit entities, not-for-profit institutions and state, local or tribal government.

Number of Respondents: 25,925 respondents; 158,165 responses.

Estimated Time per Response: 1 hour per form.

Frequency of Response: On occasion and annual reporting requirement and third party disclosure requirement.

Obligation to Respond: Required to obtain or retain benefits. Statutory authority for this information collection is contained in 47 U.S.C. sections 1, 4(i), 4(j), 201-205, 214, 254, 312(d), 312(f), 403 and 503(b) of the Communications Act of 1934, as amended.

Total Annual Burden: 158,165 hours.

Total Annual Cost: N/A.

Privacy Impact Assessment: No impacts.

Nature and Extent of Confidentiality: The Commission does not request that respondents submit confidential information to the Commission. If the Commission requests applicants to submit information that the respondents believe is confidential, respondents may request confidential treatment under 47 CFR 0.459 of the Commission's rules.

Needs and Uses: The Commission will submit this information collection during this comment period to obtain the full, three year clearance from the Office of Management and Budget (OMB). The Commission is requesting approval for a revision. The Commission is also reporting a 15,015 hour burden increase adjustment. This is due to updated information based on actual participation in the E-rate program. The Commission requests a total hourly burden change for FCC Forms 472, 473 and 474 from 143,150 burden hours to 158,165 burden hours.

FCC Form 472 (Billed Entity Applicant Reimbursement (BEAR) Form). The Commission has made minor administrative revisions to the FCC Form 472 and associated instructions to ensure consistency with the Commission's rules and improve the clarity of the instructions. We also added a certification to the form that requires services providers to certify compliance with all E-rate rules.

FCC Form 473 (Service Provider Annual Certification Form) was modified the existing certification regarding recordkeeping on the FCC Form 473 to ensure consistency with 47 CFR 54.516 of the Commission's rules, which requires service providers to retain documentation for at least five years after the last day of the delivery of discounted services and we have modified the language regarding production of documents to the Universal Service Administrative Company (USAC) or the Fund Administrator. We have added a certification requiring service providers to certify that they have properly allocated eligible and ineligible service components. We have added a certification requiring service providers to attest that they will not pay any part of the non-discount share that is to be paid by applicants. We have also added certifications regarding the prohibition against kickback, gifts and participation while suspended or debarred. Finally, we have also added a certification to the FCC Form 473 that requires services providers to certify compliance with all E-rate rules. The instructions to the FCC Form 473 have been revised to reflect the changes to that form.

FCC Form 474 (Service Provider Invoice (SPI) Form). The Commission made minor administrative revisions to the FCC Form 474 and associated instructions to ensure consistency with the Commission's rules and to improve the clarity of the instructions. We have also added three certifications to the FCC Form 474 that requires services providers to certify compliance with all E-rate rules and also to verify that the services providers FCC Form 473 certifications are correct.

The purposes of each FCC form were described in the 60 day notice that was published on February 6, 2013 (78 FR 8527). All of the requirements contained in this information collection are necessary to implement the congressional mandate for the schools and libraries universal service support program and reimbursement process.

OMB Control Number: 3060-0986.

Title: Competitive Carrier Line Count Report and Self-Certification as a Rural Carrier.

Form Numbers: FCC Forms 525 and 481.

Type of Review: Revision of a currently approved collection.

Respondents: Business or other for-profit entities, not-for-profit institutions and state, local or tribal government.

Number of Respondents: 8,690 respondents; 8,804 responses.

Estimated Time per Response: .5 hours to 100 hours.

Frequency of Response: Annual, on occasion and quarterly reporting requirements, recordkeeping requirement and third party disclosure requirement.

Obligation to Respond: Required to obtain or retain benefits. Statutory authority for this information collection is contained in 47 U.S.C. sections 151, 154(i) and (j), 205, 221(c), 254, 303(r), 403, 410 and 1302 of the Communications Act of 1934, as amended.

Total Annual Burden: 272,017 hours.

Total Annual Cost: N/A.

Privacy Impact Assessment: N/A.

Nature and Extent of Confidentiality: Parties may submit confidential information in relation to sub-item 0 in item 12 of the supporting statement pursuant to a protective order. We note that USAC must preserve the confidentiality of all data obtained from respondents and contributors to the universal service support program mechanism; must not use the data except for the purposes of administering the universal service support program; and must not disclose data in company-specific form unless directed to do so by the Commission.

Needs and Uses: The Commission will submit this information collection as a revision during this comment period to obtain the full, three year clearance from the Office of Management and Budget (OMB).

There are no changes to the FCC Form 525, which is part of this information collection. New FCC Form 481 is being added to this information for which we seek OMB approval along with other information collection requirements. See the 60 day notice for specific details of the revision which was published in the Federal Register on February 25, 2013 (78 FR 12750).

Federal Communications Commission.
Marlene H. Dortch,
Secretary, Office of the Secretary,Office of Managing Director.

[FR Doc. 2013-13348 Filed 6-5-13; 8:45 am]

BILLING CODE 6712-01-P